DEPARTMENT OF ENERGY

Federal Energy Regulatory Commission

[Docket No. EL05-65-000]

ExxonMobil Chemical Company and ExxonMobil Refining & Supply Company, Complainants v. Entergy Services, Inc., and Entergy Operating Companies, Respondents; Notice of Complaint

February 22, 2005.

Take notice that on February 17, 2005, ExxonMobil Chemical Company and ExxonMobil Refining & Supply Company (collectively ExxonMobil) filed a formal complaint against Entergy Services, Inc., and Entergy Operating Companies (collectively Entergy) pursuant to section 206 of the Federal Power Act (FPA) and Rule 206 of the Commission's Rules of Practice and Procedure 18 CFR 385.206 (2004), alleging that Entergy has violated the FPA, Commission orders and policies, and its open access tariff relative to: (1) The terms and conditions of the Interconnection & Operating Agreement covering the generation and interconnection facilities located at the ExxonMobil chemical and refining complex in Baton Rouge, Louisiana; and (2) the provision of fair and open access to the transmission grid for the purpose of sales of surplus power to third parties.

The complaint has been submitted in two separate volumes. Volume one is publicly available. Volume two has been submitted under 18 CFR 388.112 and 388.113 as critical energy infrastructure information (CEII); this information is not publicly available at this time. The procedures for requesting access to CEII are set forth in the Commission's rules, at 18 CFR 388.113. These procedures may also be found on the Commission's Web site at: http://www.ferc.gov/help/how-to/file-ceii.asp.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: March 21, 2005.

Magalie R. Salas,
Secretary.

[FR Doc. E5-812 Filed 2-28-05; 8:45 am]

BILLING CODE 6717-01-P